DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Andrew R. Cullinane, Ph.D., National Institutes of Health: Based on Respondent's admission, an assessment conducted by the National Institutes of Health (NIH), and analysis conducted by ORI in its oversight review, ORI found that Dr. Andrew R. Cullinane, former postdoctoral fellow, Medical Genetics Branch, National Human Genome Research Institute (NHGRI), NIH, engaged in research misconduct in research supported by NHGRI, NIH.

ORI found that Respondent engaged in research misconduct by reporting falsified and/or fabricated data in the following two (2) publications and one (1) submitted manuscript:

• Am. J. Hum. Genet. 88(6):778-787, 2011 (hereafter referred to as “Paper 1”)

• Neurology 86(14):1320-1328, 2016 (hereafter referred to as “Paper 2”)

• “RAB11FIP1, Mutated in HPS-10, Interacts with BLOC-1 to Mitigate Recycling of Melanogenic Proteins.” Submitted for publication to The Journal of Clinical Investigations, Cell, Nature Biology, Molecular Cell, and Nature Genetics (hereafter referred to as “Manuscript 1”)

ORI found that Respondent knowingly falsified and/or fabricated data and related images by alteration and/or reuse and/or relabeling of experimental data. Specifically:

• in Paper 1, Respondent falsified and/or fabricated the results in Figure 3C by using the same gel images to represent expression of PLDN in fibroblasts and melanocytes

• in Paper 2, Respondent falsified and/or fabricated the results in Figure 2A by erasure of a band in the blot image for LYST/CHD-4 that was present in the original data

• in Manuscript 1, Respondent falsified and/or fabricated the results in Western blot data by reuse and relabeling, duplication, and/or manipulation in Figures 2B, 2D, 2E, 3A-C, 4C, 4E, 4G, 5B, 6A-C, 7A, 7D, 7G, 7J, and Supplemental Figure 3, and Respondent falsified and/or fabricated the results by reuse and relabeling of centrifuge tubes to represent different experiments in Figures 1D, 7C, 7F, 7I, 7L, and Supplemental Figure 2

Dr. Cullinane has entered into a Voluntary Settlement Agreement with ORI and NIH, in which he voluntarily agreed:

(1) To have his research supervised for a period of three (3) years beginning on July 22, 2016; Respondent agreed to ensure that prior to the submission of an application for U.S. Public Health Service (PHS) support for a research project on which Respondent's participation is proposed and prior to Respondent's participation in any capacity on PHS-supported research, the institution employing him must submit a plan for supervision of his duties to ORI for approval. The plan for supervision must be designed to ensure the scientific integrity of Respondent's research contribution; Respondent agreed that he will not participate in any PHS-supported research until a plan for supervision is submitted to and approved by ORI; Respondent agreed to maintain responsibility for compliance with the agreed upon supervision plan;

(2) that for a period of three (3) years beginning on July 22, 2016, any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) to exclude himself from serving in any advisory capacity to PHS including, but not limited to, service on any PHS advisory committee, board, and/or peer review committee, or as a consultant for a period of three (3) years, beginning on July 22, 2016; and

(4) as a condition of the Agreement, Respondent agreed to the retraction or correction of:

• Am. J. Hum. Genet. 88(6):778-787, 2011

• Neurology 86(14):1320-1328, 2016

FOR FURTHER INFORMATION CONTACT: Director, Office of Research Integrity, 1101 Wootton Parkway, Suite 750, Rockville, MD 20852, (240) 453-8200.

Kathryn M. Partin,
Director, Office of Research Integrity.

[FR Doc. 2016-20834 Filed 8-29-16; 8:45 am]

BILLING CODE 4150-31-P